DEPARTMENT OF TRANSPORTATION

Federal Railroad Administration

Petition for Waiver of Compliance

In accordance with part 211 of Title 49 Code of Federal Regulations (CFR), notice is hereby given that the Federal Railroad Administration (FRA) received a request for a waiver of compliance with certain requirements of its safety standards. The individual petition is described below, including the party seeking relief, the regulatory provisions involved, the nature of the relief being requested, and the petitioner's arguments in favor of relief.

Dakota, Minnesota & Eastern Railroad

[Docket Number FRA-2003-14986]

Dakota, Minnesota & Eastern Railroad (DM&E) seeks a waiver of compliance from the provisions of the Track Safety Standards, 49 CFR 213.113(a), regarding defective rails.

The DM&E is petitioning for a waiver which would provide relief from replacing rails that contain bolt hole/rail crack-outs that emanate from the edge of the rail to the bolt hole ‘one’ location of various rail joint locations.

The petitioner states that rails with bolt-hole/rail crack-outs up to 6″ maximum from the end of the rail to the bolt hole ‘one’ location can be allowed to remain in service as the broken-out piece of rail remains tightly held by the joint bars and thus poses less danger of breaking loose. The petitioner proposes to institute a 10 MPH slow order at these locations as well as schedule daily visual inspections in lieu of constant visual inspection of each operation over that defect (for up to no more than 30 days for any instance) by qualified personnel as per 49 CFR 213.7. If the cracks grow greater than 6″ from the edge of rail or the rail section becomes loose, priority will be given to that location for an immediate rail replacement. The petitioner feels that this will enable the DM&E to more efficiently utilize its limited resources.

Interested parties are invited to participate in these proceedings by submitting written views, data, or comments. FRA does not anticipate scheduling a public hearing in connection with these proceedings since the facts do not appear to warrant a hearing. If any interested party desires an opportunity for oral comment, they should notify FRA in writing before the end of the comment period and specify the basis for their request.

All communication concerning these proceedings should identify the appropriate docket number (e.g., Waiver Petition Docket Number 2003-14986) and must be submitted to the Docket Clerk, DOT Docket Management Facility, Room PL-401 (Plaza Level), 400 7th Street, SW., Washington, DC 20590. Communications received within 45 days of the date of this notice will be considered by FRA before final action is taken. Comments received after that date will be considered as far as practicable. All written communications concerning these proceedings are available for examination during regular business hours (9 a.m.-5 p.m.) at the above facility. All documents in the public docket are also available for inspection and copying on the Internet at the docket facility's Web site at http://dms.dot.gov.

FRA wishes to inform all potential commenters that anyone is able to search the electronic form of all comments received into any of our dockets by the name of the individual submitting the comment (or signing the comment, if submitted on behalf of an association, business, labor union, etc.). You may review DOT's complete Privacy Act Statement in the Federal Register published on April 11, 2000 (volume 65, number 70; pages 19477-78), or you may visit http://dms.dot.gov.

Issued in Washington, DC on June 11, 2003.
Grady C. Cothen, Jr.,
Deputy Associate Administrator for Safety Standards and Program Development.

[FR Doc. 03-15399 Filed 6-17-03; 8:45 am]

BILLING CODE 4910-06-P